COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities, and deletes products previously furnished by such agencies.

DATES: Comments must be received on or before: May 27, 2018.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s):

2540-00-587-2532—Tarpaulin, Green, 12′ x 17′

2540-01-330-8062—Tarpaulin, Tan, 12′ x 17′

Mandatory Source of Supply: Association for Vision Rehabilitation and Employment, Inc., Binghamton, NY

Mandatory for: 100% of the requirement of the Department of Defense

Contracting Activity: Defense Commissary Agency Land and Maritime

Distribution: C-List

NSN(s)—Product Name(s): 5975-00-985-6630—Strap, Tie Down, Electrical Component

Mandatory Source of Supply: North Central Sight Services, Inc., Williamsport, PA

Mandatory for: Broad Government Requirement

Contracting Activity: Defense Logistics Agency Aviation

Distribution: B-List

Service

Service Type: Custodial Service

Mandatory for: U.S. Customs and Border Protection, All CBP Facilities, U.S. Virgin Islands, 5500 Veterans Drive, St. Thomas, VI

Mandatory Source of Supply: The Corporate Source, Inc., New York, NY

Contracting Activity: U.S. Customs and Border Protection, Border Enforcement Ctr Div

Deletions

The following products are proposed for deletion from the Procurement List:

Products

NSN(s)—Product Name(s):

8415-01-475-4554—Drawers, Cold Weather Knitted/Terry, ECWCS, Army, Unisex, Long, Brown, XXLXXL

8415-01-475-4561—Drawers, Cold Weather Knitted/Terry, ECWCS, Army, Unisex, Long, Brown, XXXL

8415-00-0DR-W656—Drawers, Cold Weather, Army, Unisex, Long, Brown, Special Measurement

Mandatory Sources of Supply:

Four Rivers Resource Services, Inc., Linton, IN

New Horizons Rehabilitation Services, Inc., Auburn Hills, MI

Peckham Vocational Industries, Inc., Lansing, MI

Casco Area Workshop, Inc., Harrisonville, MO

NSN(s)—Product Name(s):

8415-01-227-9542—Drawers, Cold Weather, Knitted/Terry, ECWCS, Army, Unisex, Ankle Length, Brown, XS

8415-01-227-9543—Drawers, Cold Weather, Knitted/Terry, ECWCS, Army, Unisex, Ankle Length, Brown, S

8415-01-227-9544—Drawers, Cold Weather, Knitted/Terry, ECWCS, Army, Unisex, Ankle Length, Brown, M

8415-01-227-9545—Drawers, Cold Weather, Knitted/Terry, ECWCS, Army, Unisex, Ankle Length, Brown, L

8415-01-227-9546—Drawers, Cold Weather, Knitted/Terry, ECWCS, Army, Unisex, Ankle Length, Brown, XL

Mandatory Sources of Supply:

Southeastern Kentucky Rehabilitation Industries, Inc., Corbin, KY

New Horizons Rehabilitation Services, Inc., Auburn Hills, MI

Four Rivers Resource Services, Inc., Linton, IN

Peckham Vocational Industries, Inc., Lansing, MI

Casco Area Workshop, Inc., Harrisonville, MO

NSN(s)—Product Name(s):

8415-01-327-4825—Cover, Helmet, Parachutists, Army, Desert Camouflage, Medium/Large

8415-01-327-4826—Cover, Helmet, Parachutists, Army, Desert Camouflage, X Large

Mandatory Sources of Supply:

Chautauqua County Chapter, NYSARC, Jamestown, NY

Mount Rogers Community Services Board, Wytheville, VA

NSN(s)—Product Name(s): 8415-01-103-1350—Cover, Helmet, Parachutist, Army, Desert Camouflage, ML

Mandatory Source of Supply: North Bay Rehabilitation Services, Inc., Rohnert Park, CA

NSN(s)—Product Name(s):

8415-01-525-6673—Cover, Fits over Combat Helmet, PASGT, Army, Desert Camouflage

8415-01-525-6685—Cover, Fits over Combat Helmet, PASGT, Army, Desert Camouflage

8415-00-926-5113—Coverall, Industrial, Safety, Lint-free, Army, Long Sleeved, Tan, Large

8415-00-939-7879—Coverall, Industrial, Safety, Lint-free, Army, Long Sleeved, Tan, X Small

8415-00-939-7880—Coverall, Industrial, Safety, Lint-free, Army, Long Sleeved, Tan, S

8415-00-939-7881—Coverall, Industrial, Safety, Lint-free, Army, Long Sleeved, Tan, M

8415-00-939-7882—Coverall, Industrial, Safety, Lint-free, Army, Long Sleeved, Tan, X Large

Mandatory Source of Supply: Human Technologies Corporation, Utica, NY

Contracting Activity: Defense Logistics Agency Troop Support

Amy Jensen,
Director, Business Operations.

[FR Doc. 2018-08946 Filed 4-26-18; 8:45 am]

BILLING CODE 6353-01-P